DEPARTMENT OF TRANSPORTATION

Federal Aviation Administration

Safety Oversight and Certification Advisory Committee; Meeting

AGENCY: Federal Aviation Administration (FAA), DOT.

ACTION: Notice of Safety Oversight and Certification Advisory Committee (SOCAC) meeting.

SUMMARY: This notice announces a meeting of the SOCAC.

DATES: The meeting will be held on April 16, 2020, from 10 a.m. to 3 p.m. Eastern Daylight Time.

Requests to attend the meeting must be received by March 30, 2020.

Requests for accommodations to a disability must be received by March 30, 2020.

Requests to speak during the meeting must submit a written copy of their remarks to the Designated Federal Officer (DFO) by March 30, 2020.

Requests to submit written materials to be reviewed during the meeting must be received no later than March 30, 2020.

ADDRESSES: The meeting will be held at the Federal Aviation Administration, 800 Independence Avenue SW, Washington, DC 20591. Information on the committee and copies of the meeting minutes will be available on the FAA Committee website at https://www.faa.gov/regulations_policies/rulemaking/committees/documents/.

FOR FURTHER INFORMATION CONTACT: Thuy H. Cooper, Federal Aviation Administration, 800 Independence Avenue SW, Washington, DC 20591, telephone (202) 267-4191; fax (202) 267-5075; email 9-awa-arm-socac@faa.gov. Any committee related request should be sent to the person listed in this section.

SUPPLEMENTARY INFORMATION:

I. Background

The SOCAC was created under the Federal Advisory Committee Act (FACA), in accordance with the FAA Reauthorization Act of 2018, Public Law 115-254, to provide advice to the Secretary on policy-level issues facing the aviation community that are related to FAA safety oversight and certification programs and activities.

II. Agenda

At the meeting, the agenda will cover the following topics:

• Review and Acceptance of November 2019 Minutes

• Governance

• Aviation Rulemaking Committee Activities

• Certification Process

Additional information will be posted on the committee's website listed in the ADDRESSES section at least one week in advance of the meeting.

III. Public Participation

The meeting will be open to the public on a first-come, first served basis, as space is limited. Please confirm your attendance with the person listed in the FOR FURTHER INFORMATION CONTACT section no later than March 30, 2020. Please provide the following information: Full legal name, country of citizenship, and name of your industry association, or applicable affiliation. If you are attending as a public citizen, please indicate so.

For persons participating by telephone, please contact the person listed in the FOR FURTHER INFORMATION CONTACT section by email or phone for the teleconference call-in number and passcode. Callers are responsible for paying long-distance charges.

The U.S. Department of Transportation is committed to providing equal access to this meeting for all participants. If you need alternative formats or services because of a disability, such as sign language, interpretation, or other ancillary aids, please contact the person listed in the FOR FURTHER INFORMATION CONTACT section by March 30, 2020.

There will be 15 minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the FAA Office of Rulemaking may conduct a lottery to determine the speakers. Speakers are requested to submit a written copy of their prepared remarks for inclusion in the meeting records and for circulation to SOCAC members. All prepared remarks submitted on time will be accepted and considered as part of the record. Any member of the public may present a written statement to the committee at any time.

The public may present written statements to the SOCAC by providing 25 copies to the Designated Federal Officer, by sending the person listed in the FOR FURTHER INFORMATION CONTACT section, or by bringing the copies to the meeting.

Issued in Washington, DC, on March 9, 2020.
James M. Crotty,
Acting Deputy Executive Director, Office of Rulemaking.

[FR Doc. 2020-05206 Filed 3-12-20; 8:45 am]

BILLING CODE 4910-13-P